DEPARTMENT OF TRANSPORTATION

National Highway Traffic Safety Administration

[Docket No. NHTSA-2004-18849]

Notice of Receipt of Petition for Decision That Nonconforming 1994-1997 Right Hand Drive (RHD) Honda Accord Sedan and Wagon Passenger Cars Are Eligible for Importation

AGENCY: National Highway Traffic Safety Administration, DOT.

ACTION: Notice of receipt of petition for decision that nonconforming 1994-1997 Right Hand Drive (RHD) Honda Accord sedan and wagon passenger cars are eligible for importation.

SUMMARY: This document announces receipt by the National Highway Traffic Safety Administration (NHTSA) of a petition for a decision that 1994-1997 RHD Honda Accord sedans and wagons that were not originally manufactured to comply with all applicable Federal motor vehicle safety standards are eligible for importation into the United States because (1) they are substantially similar to vehicles that were originally manufactured for sale in the United States and that were certified by their manufacturer as complying with the safety standards, and (2) they are capable of being readily altered to conform to the standards.

DATES: The closing date for comments on the petition is September 27, 2004.

ADDRESSES: Comments should refer to the docket number and notice number, and be submitted to: Docket Management, Room PL-401, 400 Seventh St., SW., Washington, DC 20590. (Docket hours are from 9 a.m. to 5 p.m.) Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78), or you may visit http://dms.dot.gov.

FOR FURTHER INFORMATION CONTACT: Coleman Sachs, Office of Vehicle Safety Compliance, NHTSA (202) 366-3151).

SUPPLEMENTARY INFORMATION:

Background

Under 49 U.S.C. 30141(a)(1)(A), a motor vehicle that was not originally manufactured to conform to all applicable Federal motor vehicle safety standards shall be refused admission into the United States unless NHTSA has decided that the motor vehicle is substantially similar to a motor vehicle originally manufactured for sale in the United States, certified under 49 U.S.C. 30115, and of the same model year as the model of the motor vehicle to be compared, and is capable of being readily altered to conform to all applicable Federal motor vehicle safety standards.

Petitions for eligibility decisions may be submitted by either manufacturers or importers who have registered with NHTSA pursuant to 49 CFR part 592. As specified in 49 CFR 593.7, NHTSA publishes notice in the Federal Register of each petition that it receives, and affords interested persons an opportunity to comment on the petition. At the close of the comment period, NHTSA decides, on the basis of the petition and any comments that it has received, whether the vehicle is eligible for importation. The agency then publishes this decision in the Federal Register.

American Auto Dream of Costa Mesa, California (“AAD”) (Registered Importer 02-224) has petitioned NHTSA to decide whether 1994-1997 RHD Honda Accord sedans and wagons are eligible for importation into the United States. The vehicles that AAD believes are substantially similar are 1994-1997 left hand drive (LHD) Honda Accord sedans and wagons that were manufactured for sale in the United States and certified by their manufacturer as conforming to all applicable Federal motor vehicle safety standards.

The petitioner claims that it carefully compared non-U.S. certified 1994-1997 RHD Honda Accord sedans and wagons to their U.S.-certified LHD counterparts (which the petitioner states are manufactured in the same plant and on the same assembly line), and found the vehicles to be substantially similar with respect to compliance with most Federal motor vehicle safety standards.

AAD submitted information with its petition intended to demonstrate that non-U.S. certified 1994-1997 RHD Honda Accord sedans and wagons, as originally manufactured, conform to many Federal motor vehicle safety standards in the same manner as their U.S.-certified LHD counterparts, or are capable of being readily altered to conform to those standards.

Specifically, the petitioner claims that non-U.S. certified 1994-1997 RHD Honda Accord sedans and wagons are identical to their U.S.-certified LHD counterparts with respect to compliance with Standard Nos. 102 Transmission Shift Lever Sequence, Starter Interlock, and Transmission Braking Effect, 103 Windshield Defrosting and Defogging Systems, 104 Windshield Wiping and Washing Systems, 105 Hydraulic and Electric Brake Systems, 106 Brake Hoses, 109 New Pneumatic Tires, 113 Hood Latch System, 114 Theft Protection, 116 Motor Vehicle Brake Fluids, 118 Power-Operated Window, Partition, and Roof Panel Systems, 124 Accelerator Control Systems, 201 Occupant Protection in Interior Impact, 202 Head Restraints, 204 Steering Control Rearward Displacement, 205 Glazing Materials, 206 Door Locks and Door Retention Components, 207 Seating Systems, 208 Occupant Crash Protection, 209 Seat Belt Assemblies, 210 Seat Belt Assembly Anchorages, 212 Windshield Mounting, 214 Side Impact Protection, 216 Roof Crush Resistance, 219 Windshield Zone Intrusion, and 302 Flammability of Interior Materials.

Additionally, the petitioner states that non-U.S. certified 1994-1997 RHD Honda Accord sedans and wagons comply with the Bumper Standard found in 49 CFR part 581.

Petitioner also contends that the vehicles are capable of being readily altered to meet the following standards, in the manner indicated:

Standard No. 101 Controls and Displays: (a) Substitution of a lens marked “Brake” for a lens with a noncomplying symbol on the brake failure indicator lamp; (b) recalibration of the speedometer/odometer from kilometers to miles per hour.

Standard No. 108 Lamps, Reflective Devices and Associated Equipment: (a) Installation of U.S.-model headlamp assemblies, and (b) installation of front sidemarker lamp assemblies that incorporate side reflex reflectors.

Standard No. 110 Tire Selection and Rims: Installation of a tire information placard.

Standard No. 111 Rearview Mirrors: Inscription of the required warning statement on the passenger side rearview mirror.

Standard No. 301 Fuel System Integrity: Installation of a rollover valve in the fuel tank vent line between the fuel tank and the evaporative emissions collection canister.

The petitioner states that a vehicle identification number plate must be affixed to all non-U.S. certified 1994-1997 RHD Honda Accord sedans and wagons to meet the requirements of 49 CFR part 565.

The petitioner additionally states that all vehicles will be inspected prior to importation to assure compliance with the Theft Prevention Standard at 49 CFR part 541, and that vehicles will be modified, if necessary, to comply with that standard.

Interested persons are invited to submit comments on the petition described above. In addition, NHTSA specifically requests comments addressing the issue of whether an RHD vehicle can be properly considered “substantially similar” to an LHD vehicle of the same make, model, and model year.

While there is no specific prohibition on the importation of an RHD vehicle, our policy has been that such vehicles may not be imported under eligibility decisions that cover only the LHD version of the vehicle. We have taken this position because our experience has shown that the safety performance of an RHD vehicle is not necessarily the same as that of an apparently similar LHD vehicle that is offered for sale in this country. However, we will consider an RHD vehicle to be “substantially similar” to a U.S.-certified LHD vehicle (and therefore eligible for importation under a decision covering the LHD version) if the manufacturer advises us that the RHD vehicle would perform the same as the U.S.-certified LHD vehicle in dynamic crash tests. Absent such a showing, which indicates to us that the manufacturer has conducted a due care assessment of compliance of a RHD version with all applicable FMVSS, the RI must petition the agency under 49 CFR 593.5(2) to determine the vehicle eligible for importation. To be granted, the petition must demonstrate that the vehicle, when modified, would comply with all applicable Federal motor vehicle safety standards, including those for which dynamic crash testing is prescribed.

By submitting the petition at issue, AAS is requesting that NHTSA reevaluate this policy for an RHD vehicle that is manufactured in the same plant, and on the same assembly line, as its U.S.-certified counterpart. In processing this petition, we have decided that a comment period of 45 days is necessary to afford interested parties an opportunity to respond to the issues that it raises. We are particularly interested in comments concerning the likelihood that the RHD vehicle at issue, which is assembled on the same assembly line as its U.S.-certified LHD counterpart, would, by virtue of that fact, perform the same as the U.S.-certified vehicle in dynamic crash tests as well as crash avoidance tests.

Comments should refer to the docket number and be submitted to: Docket Management, Room PL-401, 400 Seventh St., SW., Washington, DC 20590. (Docket hours are from 9 a.m. to 5 p.m.) It is requested but not required that 10 copies be submitted.

All comments received before the close of business on the closing date indicated above will be considered, and will be available for examination in the docket at the above address both before and after that date. To the extent possible, comments filed after the closing date will also be considered. Notice of final action on the petition will be published in the Federal Register pursuant to the authority indicated below.

Authority: 49 U.S.C. 30141(a)(1)(A) and (b)(1); 49 CFR 593.8; delegations of authority at 49 CFR 1.50 and 501.8.

Claude H. Harris,
Director, Office of Vehicle Safety Compliance.

[FR Doc. 04-18483 Filed 8-11-04; 8:45 am]

BILLING CODE 4910-59-U